DEPARTMENT OF HOMELAND SECURITY

Federal Emergency Management Agency

[Docket ID FEMA-2024-0002; Internal Agency Docket No. FEMA-B-2411]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Nicholas A. Shufro,
Deputy Assistant Administrator for Risk Management, Federal Emergency Management Agency, Department of Homeland Security.

State and county | Location and case No. | Chief executive officer of community | Community map repository | Online location of letter of map revision | Date of modification | Community No.
Colorado: Jefferson | Unincorporated areas of Jefferson County (23-08-0153P). | Andy Kerr, Chair, Jefferson County Board of Commissioners, 100 Jefferson County Parkway, Suite 5550, Golden, CO 80419. | Jefferson County Planning and Zoning Division, 100 Jefferson County Parkway, Suite 3550, Golden, CO 80419. | https://msc.fema.gov/portal/advanceSearch. | Apr. 19, 2024 | 080087
Delaware:
New Castle | Unincorporated areas of New Castle County (23-03-0281P). | Matthew Meyer, New Castle County Executive, 87 Reads Way, New Castle, DE 19720. | New Castle County Land Use Department, 87 Reads Way, New Castle, DE 19720. | https://msc.fema.gov/portal/advanceSearch. | Apr. 18, 2024 | 105085
New Castle | Unincorporated areas of New Castle County (23-03-0452P). | Matthew Meyer, New Castle County Executive, 87 Reads Way, New Castle, DE 19720. | New Castle County Land Use Department, 87 Reads Way, New Castle, DE 19720. | https://msc.fema.gov/portal/advanceSearch. | Mar. 14, 2024 | 105085
Florida:
Bay | Unincorporated areas of Bay County (23-04-2123P). | Robert Majka, Bay County Manager, 840 West 11th Street, Panama City, FL 32401. | Bay County Planning and Zoning Department, 840 West 11th Street, Panama City, FL 32401. | https://msc.fema.gov/portal/advanceSearch. | Mar. 14, 2024 | 120004
Charlotte | Unincorporated areas of Charlotte County (23-04-1941P). | Bill Truex, Chair, Charlotte County Board of Commissioners, 18500 Murdock Circle, Suite 536, Port Charlotte, FL 33948. | Charlotte County Building Department, 18400 Murdock Circle, Port Charlotte, FL 33948. | https://msc.fema.gov/portal/advanceSearch. | Mar. 14, 2024 | 120061
Charlotte | Unincorporated areas of Charlotte County (23-04-6087P). | Bill Truex, Chair, Charlotte County Board of Commissioners, 18500 Murdock Circle, Suite 536, Port Charlotte, FL 33948. | Charlotte County Building Department, 18400 Murdock Circle, Port Charlotte, FL 33948. | https://msc.fema.gov/portal/advanceSearch. | Apr. 8, 2024 | 120061
Lee | City of Fort Myers (23-04-3576P). | Marty Lawing, City of Fort Myers Manager, 2200 2nd Street, Fort Myers, FL 33901. | Building Department, 1825 Hendry Street, Fort Myers, FL 33901. | https://msc.fema.gov/portal/advanceSearch. | Apr. 15, 2024 | 125106
Lee | Unincorporated areas of Lee County (23-04-3576P). | David Harner, Lee County Manager, P.O. Box 398, Fort Myers, FL 33902. | Lee County Building Department, 1500 Monroe Street, Fort Myers, FL 33901. | https://msc.fema.gov/portal/advanceSearch. | Apr. 15, 2024 | 125124
Manatee | Unincorporated areas of Manatee County (23-04-0090P). | Charlie Bishop, Manatee County Administrator, 1112 Manatee Avenue West, Bradenton, FL 34205. | Manatee County Administration Building, 1112 Manatee Avenue West, Bradenton, FL 34205. | https://msc.fema.gov/portal/advanceSearch. | Apr. 26, 2024 | 120153
Marion | Unincorporated areas of Marion County (23-04-5915P). | Michelle Stone, Chair, Marion County Board of Commissioners, 601 Southeast 25th Avenue, Ocala, FL 34471. | Marion County Administration Building, 601 Southeast 25th Avenue, Ocala, FL 34471. | https://msc.fema.gov/portal/advanceSearch. | Apr. 26, 2024 | 120160
Osceola | City of St. Cloud (23-04-3875P). | Veronica Miller, City of St. Cloud Manager, 1300 9th Street, St. Cloud, FL 34769. | City Hall, 1300 9th Street, St. Cloud, FL 34769. | https://msc.fema.gov/portal/advanceSearch. | Apr. 26, 2024 | 120191
Maine: Lincoln | Town of Boothbay Harbor (23-01-0799P). | Julia Latter, Town Boothbay Harbor Manager, 11 Howard Street, Boothbay Harbor, ME 04538. | Code Enforcement Department, 11 Howard Street, Boothbay Harbor, ME 04538. | https://msc.fema.gov/portal/advanceSearch. | Apr. 12, 2024 | 230213
Massachusetts: Essex | City of Gloucester (24-01-0023P). | The Honorable Greg Varga, Mayor, City of Gloucester, 9 Dale Avenue, Gloucester, MA 01930. | City Hall, 3 Pond Road, 2nd Floor, Gloucester, MA 01930. | https://msc.fema.gov/portal/advanceSearch. | Mar. 29, 2024 | 250082
Pennsylvania: Lancaster | Township of East Hempfield (22-03-1093P). | Cindy Schweitzer, Manager, Township of East Hempfield, 1700 Nissley Road, Landisville, PA 17538. | Planning and Building Department, 1700 Nissley Road, Landisville, PA 17538. | https://msc.fema.gov/portal/advanceSearch. | Mar. 20, 2024 | 420548
Texas:
Bexar | City of San Antonio (23-06-1883P). | The Honorable Ron Nirenberg, Mayor, City of San Antonio, P.O. Box 839966, San Antonio, TX 78283. | Public Works Department, Storm Water Division, 1901 South Alamo Street, 2nd Floor, San Antonio, TX 78204. | https://msc.fema.gov/portal/advanceSearch. | Apr. 8, 2024 | 480045
Denton | Unincorporated areas of Denton County (23-06-1243P). | The Honorable Andy Eads, Denton County Judge, 1 Courthouse Drive, Suite 3100, Denton, TX 76208. | Denton County Development Services Department, 3900 Morse Street, Denton, TX 76208. | https://msc.fema.gov/portal/advanceSearch. | Apr. 24, 2024 | 480774
Ellis | City of Grand Prairie (23-06-2587P). | The Honorable Ron Jensen, Mayor, City of Grand Prairie, P.O. Box 534045, Grand Prairie, TX 75053. | City Hall, 300 West Main Street, Grand Prairie, TX 75050. | https://msc.fema.gov/portal/advanceSearch. | Apr. 15, 2024 | 485472
Hays | Unincorporated areas of Hays County (23-06-1564P). | The Honorable Ruben Becerra, Hays County Judge, 111 East San Antonio Street, Suite 300, San Marcos, TX 78666. | Hays County Development Services Department, 2171 Yarrington Road, Suite 100, Kyle, TX 78640. | https://msc.fema.gov/portal/advanceSearch. | Apr. 11, 2024 | 480321
Midland | City of Midland (23-06-1759P). | The Honorable Lori Blong, Mayor, City of Midland, 300 North Loraine Street, Midland, TX 79701. | Engineering Department, 300 North Loraine Street, Midland, TX 79701. | https://msc.fema.gov/portal/advanceSearch. | Apr. 4, 2024 | 480477
Montgomery | City of Conroe (22-06-3014P). | The Honorable Jody Czajkoski, Mayor, City of Conroe, 300 West Davis Street, Conroe, TX 77301. | City Hall, 500 Metcalf Drive, Conroe, TX 77305. | https://msc.fema.gov/portal/advanceSearch. | Apr. 19, 2024 | 480484
Montgomery | Unincorporated areas of Montgomery County (22-06-3014P). | The Honorable Mark J. Keough, Montgomery County Judge, 501 North Thompson Street, Conroe, TX 77301. | Montgomery County Permitting Department, 501 North Thompson Street, Suite 100, Conroe, TX 77301. | https://msc.fema.gov/portal/advanceSearch. | Apr. 19, 2024 | 480483
Tarrant | City of Benbrook (23-06-1239P). | The Honorable Jason Ward, Mayor, City of Benbrook, 911 Winscott Road, Benbrook, TX 76126. | City Hall, 911 Winscott Road, Benbrook, TX 76126. | https://msc.fema.gov/portal/advanceSearch. | Apr. 22, 2024 | 480586
Tarrant | City of Fort Worth (23-06-1173P). | The Honorable Mattie Parker, Mayor, City of Fort Worth, 200 Texas Street, Fort Worth, TX 76102. | Department of Transportation and Public Works, Engineering Vault and Map Repository, 200 Texas Street, Fort Worth, TX 76102. | https://msc.fema.gov/portal/advanceSearch. | Apr. 22, 2024 | 480596
Tarrant | City of Fort Worth (23-06-1240P). | The Honorable Mattie Parker, Mayor, City of Fort Worth, 200 Texas Street, Fort Worth, TX 76102. | Department of Transportation and Public Works, Engineering Vault and Map Repository, 200 Texas Street, Fort Worth, TX 76102. | https://msc.fema.gov/portal/advanceSearch. | Mar. 25, 2024 | 480596
Tarrant | City of Fort Worth (23-06-1421P). | The Honorable Mattie Parker, Mayor, City of Fort Worth, 200 Texas Street, Fort Worth, TX 76102. | Department of Transportation and Public Works, Engineering Vault and Map Repository, 200 Texas Street, Fort Worth, TX 76102. | https://msc.fema.gov/portal/advanceSearch. | Apr. 8, 2024 | 480596
Tarrant | City of Lake Worth (23-06-1173P). | The Honorable Walter Bowen, Mayor, City of Lake Worth, 3805 Adam Grubb Street, Lake Worth, TX 76135. | City Hall, 3805 Adam Grubb Street, Lake Worth, TX 76135. | https://msc.fema.gov/portal/advanceSearch. | Apr. 22, 2024 | 480605
Tarrant | City of Mansfield (23-06-0492P). | The Honorable Michael Evans, Mayor, City of Mansfield, 1200 East Broad Street, Mansfield, TX 76063. | City Hall, 1200 East Broad Street, Mansfield, TX 76063. | https://msc.fema.gov/portal/advanceSearch. | Apr. 4, 2024 | 480606
Tarrant | Town of Lakeside (23-06-1173P). | The Honorable Patrick Jacob, Mayor, Town of Lakeside, 9830 Confederate Park Road, Lakeside, TX 76108. | Town Hall, 9830 Confederate Park Road, Lakeside, TX 76108. | https://msc.fema.gov/portal/advanceSearch. | Apr. 22, 2024 | 480604
Tarrant | Unincorporated areas of Tarrant County (23-06-1173P). | The Honorable Tim O'Hare, Tarrant County Judge, 100 East Weatherford Street, Suite 501, Fort Worth, TX 76196. | Tarrant County Administration Building, 100 East Weatherford Street, Fort Worth, TX 76196. | https://msc.fema.gov/portal/advanceSearch. | Apr. 22, 2024 | 480582
Utah: Weber | City of Ogden (23-08-0037P). | The Honorable Mike Caldwell, Mayor, City of Ogden, 2549 Washington Boulevard, Ogden, UT 84401. | City Hall, 2549 Washington Boulevard, Ogden, UT 84401. | https://msc.fema.gov/portal/advanceSearch. | Apr. 22, 2024 | 490189

[FR Doc. 2024-03263 Filed 2-15-24; 8:45 am]

BILLING CODE 9110-12-P